NATIONAL TRANSPORTATION SAFETY BOARD

Sunshine Act Meeting

Time and Place: 9:30 a.m., Tuesday, March 7, 2006.

Place: NTSB Conference Center, 429 L'Enfant Plaza, SW., Washington, DC 20594.

Status: The two items are open to the public.

Matters To Be Considered:

7679A Marine Accident Report—Capsizing of U.S. Small Passenger Vessel Lady D, Northwest Harbor, Baltimore, Maryland, March 6, 2004.

7646A Aircraft Accident Report—Controlled Flight into Terrain, Era Aviation, Sikorsky, S-76A++, N579EH, Gulf of Mexico, About 70 Nautical Miles South-Southeast of Scholes International Airport, Galveston, Texas, March 23, 2004.

News Media Contact: Telephone: (202) 314-6100.

Individuals requesting specific accommodations should contact Chris Bisett at (202) 314-6305 by Friday, March 3, 2006.

The public may view the meeting via a live or archived Webcast by accessing a link under “News & Events” on the NTSB home page at http://www.ntsb.gov.

FOR FURTHER INFORMATION CONTACT: Vicky D'Onofrio, (202) 314-6410.

Dated: February 24, 2006.
Vicky D'Onofrio,
Federal Register Liaison Officer.

[FR Doc. 06-1909 Filed 2-24-06; 12:46pm]

BILLING CODE 7533-01-M